DEPARTMENT OF TRANSPORTATION

Office of the Secretary

Electronic Drug Testing Information Roundtable

AGENCY: Office of the Secretary of Transportation (OST), DOT.

ACTION: Notice of public meeting.

SUMMARY: The Department of Transportation (DOT), Department of Health and Human Services (HHS), and Office of Management and Budget (OMB) are holding a public meeting on August 4, 2000, to foster further discussion of the application of electronic transmission, storage, and signature of material concerned with the DOT and HHS drug testing programs.

FOR FURTHER INFORMATION CONTACT: Ron Matzner, Office of Information and Regulatory Affairs, New Executive Office Building, 750 17th Street, NW., Washington, DC, 20503; 202-395-4856; Rmatzner@omb.eop.gov : Don Shatinsky, Drug and Alcohol Policy Advisor, Office of Drug and Alcohol Policy and Compliance, DOT, 400 7th Street, SW., Room 10403, Washington, DC, 20590; 202-366-3784; don.shatinsky@ost.dot.gov : or Dr. Walter Vogl, Drug Testing Section, Division of Workplace Programs, HHS, 5600 Fishers Lane, Rockwall 2 Building, Room 815, Rockville, MD 20857; 301-443-6014; wvogl@samhsa.gov.

SUPPLEMENTARY INFORMATION: On June 15, 2000, the OMB's Office of Information and Regulatory Affairs (OIRA) held a public meeting, attended by Federal agency and laboratory representatives and other interested persons, to discuss how best to apply electronic technology to the information collection, transmission, and storage of data connected with Federally-mandated drug testing programs. The meeting was titled “The Paperless Laboratory,” though the subject matter was not limited to laboratory matters, as such. OMB, DOT, and HHS are very interested in moving forward in this area, and for this purpose we are convening a second public meeting.

The meeting will take place in the Truman Room of the White House Conference Center on August 4, 2000, from 9 a.m. to approximately 5 p.m. The White House Conference Center is located at 726 Jackson Place, NW., Washington, DC 20503. Lunch will be on your own.

The following is the tentative agenda for this meeting:

I. Overview and summary of the June 15 meeting

II. Objectives of the August 4 meeting

III. Procedure

a. Scope

b. Discussion of the Federal Advisory Committee Act (FACA) and its application to this subject matter

c. Discussion of organization of working groups

d. Development of work plan and time line

IV. Legal issues (presentation by Department of Justice)

a. Current status and future of laws related to electronic records

b. Transmission of electronic records

c. Admissibility in court

d. Use in forensic programs

V. Policy issues

a. What process changes should be made?

b. What information should be collected?

c. Who should collect the information (e.g., should employer/collector initiate an electronic custody and control form?)

d. To whom and in what form should reports be made?

VI. Technical issues

a. Interoperable interfaces

b. Portal technology

c. Standards

VII. Security technical issues: encryption, PKI, firewalls, biometrics, token technologies, etc.

VIII. Next steps

One of the ideas the Federal agencies involved are considering is forming a formal advisory committee, under the Federal Advisory Committee Act (see item III(b) in agenda). This committee would consist of representatives of interested parties who would meet periodically with the Federal agencies concerned with drug testing and attempt to formulate consensus recommendations on electronic technology as it relates to the DOT and HHS drug testing procedures. One of the purposes of the meeting is to determine the interest of non-government parties in participating in such a committee.

The primary focus of this initiative has been drug testing. However, DOT also has a parallel alcohol testing program. Many of the issues we are discussing also have relevance to the alcohol testing program. DOT is interested in using this meeting as a forum to discuss electronic alcohol testing information matters as well.

If you are interested in attending, please fax or e-mail the following information to Lisa Jones, OIRA, at 202-395-7245 or Ljones@omb.eop.gov by August 1, 2000. If you have any questions concerning registration for the meeting, you may call 202-395-5898.

Full Name, Title, Organization, Telephone and fax numbers, E-mail address, Special needs.

Issued this 21st day of July, 2000, at Washington, DC.
Mary Bernstein,
Director, Office of Drug and Alcohol Policy and Compliance.

[FR Doc. 00-18905 Filed 7-24-00; 8:45 am]

BILLING CODE 4910-62-U